DEPARTMENT OF AGRICULTURE

Natural Resources Conservation Service

Non-Rock Alternatives to Shoreline Protection Demonstration Project (LA-16) Iberia, Jefferson, and Lafourche Parishes, LA

AGENCY: Natural Resources Conservation Service, Department of Agriculture.

ACTION: Notice of Finding of No Significant Impact.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Non-Rock Alternatives to Shoreline Protection Demonstration Project (LA-16), Iberia, Jefferson, and Lafourche Parishes, Louisiana.

FOR FURTHER INFORMATION CONTACT: W. Britt Paul, Acting State Conservationist, Natural Resources Conservation Service, 3737 Government Street, Alexandria, Louisiana 71302; telephone (318) 473-7751.

SUPPLEMENTARY INFORMATION: An environmental assessment of the federally assisted action indicates that the project will not cause significant local, regional, or national impacts on the environment. As a result of these findings, W. Britt Paul, Acting State Conservationist, has determined that preparation and review of an environmental impact statement is not needed for this project.

The project will install and monitor various shoreline protection systems in areas of the state where physical, logistical and environmental limitations preclude the use of rock structures. The shoreline protection systems will be demonstrated in up to three (3) test sites in coastal Louisiana. Up to five (5) “non-rock” shoreline protection systems will be installed in 500 linear foot sections at each site, extending a maximum of 4,200 linear feet (including buffer areas) along the shoreline at each site. The sites selected include the western side of the peninsula separating Vermilion and Weeks Bay in Iberia Parish; the southeast shoreline of Lake Salvador in Jefferson Parish; and the western shoreline of Bayou Perot in Lafourche Parish.

The Notice of Finding of No Significant Impact (FONSI) has been forwarded to the Environmental Protection Agency and to various federal, state, and local agencies and interested parties. A limited number of copies of the FONSI are available to fill single copy requests at the above address. Basic data collected during the environmental assessment are on file and may be reviewed by contacting W. Britt Paul.

No administrative action on implementation of the proposal will be taken until 30 days after the date of this publication in the Federal Register.

W. Britt Paul,
Acting State Conservationist.

[FR Doc. 2013-13060 Filed 5-31-13; 8:45 am]

BILLING CODE 3410-16-P